DEPARTMENT OF DEFENSE

Department of the Air Force

Air University Board of Visitors' Air Force Institute of Technology

AGENCY: Air University, Department of the Air Force.

ACTION: Notice withdrawal.

SUMMARY: The Department of the Air Force is withdrawing the Meeting notice for the United States Air Force Scientific Advisory Board. The Meeting published November 27, 2017 [FR 2017-2555], document citation: 82 FR 56009.

DATES: This withdrawal is effective December 7, 2017.

SUPPLEMENTARY INFORMATION: The Department of the Air Force is withdrawing the meeting notice of the Air Force Scientific Advisory Board due to an amendment to the original Notice.

Henry Williams,
Acting Air Force Federal Register Liaison Officer.

[FR Doc. 2017-26846 Filed 12-29-17; 8:45 am]

BILLING CODE 5001-10-M